ENVIRONMENTAL PROTECTION AGENCY

[FRL—9927-56-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2067.05; Laboratory Quality Assurance Evaluation Program for Analysis of Cryptosporidum under the Safe Drinking Water Act (Renewal); was approved without change on 3/31/2015; OMB Number 2040-0246; expires on 3/31/2018.

EPA ICR Number 2261.03; Safer Detergent Stewardship Initiative (SDSI) Program (Renewal); was approved without change on 3/16/2015; OMB Number 2070-0171; expires on 3/31/2018.

EPA ICR Number 2020.06; Federal Implementation Plans under the Clean Air Act for Indian Reservations in Idaho, Oregon, and Washington (Renewal); 40 CFR part 49, 49.122, 49.124, 49.126, 49.127, 49.130, 49.131, 49.132, 49.133, 49.134, 49.135, 49.138, and 49.139; was approved without change on 3/16/2015; OMB Number 2060-0558; expires on 3/31/2018.

EPA ICR Number 1974.07; NESHAP for Cellulose Products Manufacturing (Renewal); 40 CFR part 63, subparts UUUU and A; was approved without change on 4/30/2015; OMB Number 2060-0488; expires on 4/30/2018.

EPA ICR Number 0746.09; NSPS for Calciners and Dryers in Mineral Industries (Renewal); 40 CFR part 60, subparts UUU and A; was approved without change on 4/30/2015; OMB Number 2060-0251; expires on 4/30/2018.

EPA ICR Number 1712.09; NESHAP for Shipbuilding and Ship Repair Facilities—Surface Coating (Renewal); 40 CFR part 63, subparts II and A; was approved without change on 4/30/2015; OMB Number 2060-0330; expires on 4/30/2018.

EPA ICR Number 1750.07; National Volatile Organic Compound Emission Standards for Architectural Coatings (Renewal); 40 CFR part 59, subpart D; was approved without change on 4/30/2015; OMB Number 2060-0393; expires on 4/30/2018.

EPA ICR Number 2310.03; Revisions to the RCRA Definition of Solid Waste Final Rule (Revision); 40 CFR parts 260 and 261; was approved without change on 4/28/2015; OMB Number 2050-0202; expires on 4/30/2018.

EPA ICR Number 1947.06; NESHAP for Solvent Extraction for Vegetable Oil Production (Renewal); 40 CFR part 63, subpart GGGG; was approved without change on 4/22/2015; OMB Number 2060-0471; expires on 4/30/2018.

EPA ICR Number 0661.11; NSPS for Asphalt Processing and Roofing Manufacturing (Renewal); 40 CFR part 60, subparts A and UU; was approved without change on 4/22/2015; OMB Number 2060-0002; expires on 4/30/2018.

EPA ICR Number 1812.05; Annual Public Water Systems Compliance Report (Renewal); was approved without change on 4/16/2015; OMB Number 2020-0020; expires on 4/30/2018.

EPA ICR Number 1679.09; NESHAP for Marine Tank Vessel Loading Operations (Renewal); 40 CFR part 63, subpart Y; was approved without change on 4/13/2015; OMB Number 2060-0289; expires on 4/30/2018.

EPA ICR Number 1681.08; NESHAP for Epoxy Resin and Non-Nylon Polyamide Production (Renewal); 40 CFR part 63, subpart W; was approved without change on 4/13/2015; OMB Number 2060-0290; expires on 4/30/2018.

EPA ICR Number 2394.03; Control of Greenhouse Gas Emissions from New Motor Vehicles: Heavy-Duty Engine and Vehicle Standards (Renewal); 40 CFR part 523, 40 CFR part 534, 40 CFR part 535, 40 CFR part 86, 40 CFR part 1036, and 40 CFR 1037; was approved without change on 4/1/2015; OMB Number 2060-0678; expires on 4/30/2018.

Comment Filed

EPA ICR Number 1790.07; NESHAP for Phosphoric Acid Manufacturing and Phospate Fertilizers Production (Revision); 40 CFR part 63, subparts A, AA and BB; OMB filed comment on3/30/2015.

EPA ICR Number 2448.02; NESHAP for Ferroalloys (Supplemental Proposed Rule); 40 CFR part 63, subparts XXX and A; OMB filed comment on 3/16/2015.

EPA ICR Number 2503.01; Carbon Pollution Emission Guidelines for Existing Stationary Sources: Electric Utility Generating Units (Proposed Rule); 40 CFR part 60; OMB filed comment on 3/16/2015.

EPA ICR Number 2498.01; NSPS Review for Municipal Solid Waste Landfills; 40 CFR part 60; OMB filed comment on 3/16/2015.

EPA ICR Number 2495.01; Data Requirements Rule for 1-Hour SO2 NAAQS; 40 CFR part 51; OMB filed comment on 3/16/2015.

EPA ICR Number 2514.01; Effluent Limitation Guidelines and Standards for the Dental Category (Proposed Rule); 40 CFR part 403 and 40 CFR part 441; OMB filed comment on 4/16/2015.

EPA ICR Number 1664.10; National Oil and Hazardous Substances Pollution Contingency Plans (Proposed Rule); 40 CFR part 300.900; OMB filed comment on 4/8/2015.

EPA ICR Number 2497.01; NSPS for Grain Elevators (Proposed Rule); 40 CFR part 60; OMB filed comment on 4/8/2015.

Courtney Kerwin,
Acting Director, Collections Strategies Division.

[FR Doc. 2016-00743 Filed 1-14-16; 8:45 am]

BILLING CODE 6560-50-P